DEPARTMENT OF COMMERCE

National Oceanic and Atmospheric Administration

[I.D. 041806A]

Fisheries of the Exclusive Economic Zone Off Alaska; Public Meeting

AGENCY: National Marine Fisheries Service (NMFS), National Oceanic and Atmospheric Administration (NOAA), Commerce.

ACTION: Notice of a public meeting.

SUMMARY: NMFS will hold a meeting on a proposed cost recovery program for the Western Alaska Community Development Quota (CDQ) Program. The Magnuson-Stevens Fishery Conservation and Management Act (Magnuson-Stevens Act) requires that the Secretary of Commerce establish a fee collection program for the recovery of the actual costs directly related to the management and enforcement of the CDQ Program. NMFS is seeking public input about the development of such a CDQ cost recovery program.

DATES: The meeting will be held on Thursday, May 18, 2006, from 9 a.m. to 12 p.m.

ADDRESSES: The meeting will be held in the Federal Building and Courthouse - Room 154, 222 West 7th Avenue, Anchorage, Alaska.

FOR FURTHER INFORMATION CONTACT: Sally Bibb, CDQ Program Manager, 907-586-7389 or sally.bibb@noaa.gov.

NMFS is developing a cost recovery program to implement requirements of Section 304(d) of the Magnuson-Stevens Act, which requires that the Secretary of Commerce establish a fee collection program for the recovery of the actual costs directly related to management and enforcement of individual fishing quota (IFQ) programs and CDQ programs. NMFS has already implemented cost recovery programs for the IFQ halibut, IFQ sablefish, and IFQ crab fisheries off Alaska. NMFS is developing an analysis in support of rulemaking to implement a cost recovery program for the fisheries managed under the CDQ Program.

The Magnuson-Stevens Act proscribes many non-discretionary elements of cost recovery programs, such as the types of costs that may be recovered from the fishing industry, when applicable fees may be collected, and the disposition of such fees once paid. However, there are still a number of discretionary elements associated with a CDQ cost recovery program. These include such elements as: which entities would be required to pay fees; the species that would be included in a cost recovery program; the basis for affected entities' fee liability; and, how to incorporate a provision to allow the State of Alaska to apply for reimbursement of its CDQ Program management costs, among others.

NMFS is conducting the May 18, 2006, meeting so that the public and participants in the CDQ Program may provide comments to NMFS on the development and implementation of the discretionary elements of the CDQ cost recovery program.

Special Accommodations

This meeting is physically accessible to people with disabilities. Requests for sign language interpretation or other auxiliary aids should be directed to Sally Bibb (see contact information) by May 10, 2006.

Dated: April 20, 2006.
James P. Burgess,
Acting Deputy Director, Office of Sustainable Fisheries, National Marine Fisheries Service.

[FR Doc. E6-6273 Filed 4-25-06; 8:45 am]

BILLING CODE 3510-22-S